LEGAL SERVICES CORPORATION

Notice of Intent to Award—Grant Awards for the Provision of Civil Legal Services to Eligible Low-Income Clients Beginning January 1, 2001

AGENCY: Legal Services Corporation.

ACTION: Announcement of intention to make FY 2001 Competitive Grant Awards.

SUMMARY: The Legal Services Corporation (LSC) hereby announces its intention to award grants and contracts to provide economical and effective delivery of high quality civil legal services to eligible low-income clients, beginning January 1, 2001.

DATES: All comments and recommendations must be received on or before the close of business on October 30, 2000.

ADDRESSES: Legal Services Corporation—Competitive Grants, Legal Services Corporation, 750 First Street NE, 10th Floor, Washington, DC 20002-4250.

FOR FURTHER INFORMATION CONTACT: Reginald Haley, Office of Program Performance, (202) 336-8827.

SUPPLEMENTARY INFORMATION: Pursuant to LSC's announcement of funding availability on April 21, 2000 (65 FR 21480) and Grant Renewal applications due on September 1, 2000, LSC will award funds to one or more of the following organizations to provide civil legal services in the indicated service areas.

Service area | Applicant name | Anticipated FY 2001 award
AL-1 | Legal Services Corporation of Alabama Inc | $4,521,163
AL-2 | Legal Services of North-Central Alabama Inc | 514,340
AL-3 | Legal Services of Metro Birmingham Inc | 914,309
MAL | Texas Rural Legal Aid Inc | 27,789
AK-1 | Alaska Legal Services Corporation | 549,820
NAK-1 | Alaska Legal Services Corporation | 455,968
AZ-2 | DNA-People's Legal Services Inc | 514,505
AZ-3 | Community Legal Services, Inc | 2,485,068
AZ-5 | Southern Arizona Legal Aid, Inc | 1,537,088
MAZ | Community Legal Services, Inc | 125,398
NAZ-5 | DNA-People's Legal Services Inc | 2,200,066
NAZ-6 | Southern Arizona Legal Aid, Inc | 499,853
AR-1 | Ozark Legal Services | 485,262
AR-2 | Legal Services of Northeast Arkansas Inc | 413,691
AR-3 | Western Arkansas Legal Services | 340,641
AR-4 | East Arkansas Legal Services | 532,067
AR-5 | Center for Arkansas Legal Services | 1,620,910
MAR | Texas Rural Legal Aid Inc | 59,238
CA-1 | California Indian Legal Services Inc | 25,195
CA-2 | Greater Bakersfield Legal Assistance Inc | 557,576
CA-12 | Inland Counties Legal Services Inc | 2,342,908
CA-14 | Legal Aid Society of San Diego Inc | 2,075,086
CA-19 | Legal Aid Society of Orange County Inc | 2,637,858
CA-26 | Central California Legal Services | 2,036,723
CA-27 | Legal Services of Northern California Inc | 2,525,661
CA-28 | Bay Area Legal Aid | 3,380,773
CA-29 | Legal Aid Foundation of Los Angeles | 5,909,507
CA-30 | San Fernando Valley Neigh. Lgl. Svcs | 2,991,527
CA-30 | LS Prog. for Pasadena and San Gabriel-Pomona Valley | 2,991,527
CA-31 | California Rural Legal Assistance, Inc | 3,254,176
MCA | California Rural Legal Assistance, Inc | 2,229,612
NCA-1 | California Indian Legal Services Inc | 744,880
CO-6 | Colorado Legal Services | 2,974,113
MCO | Colorado Legal Services | 125,440
NCO-1 | Colorado Legal Services | 24,062
CT-1 | Statewide Legal Services of Connecticut Inc | 1,781,383
NCT-1 | Pine Tree Legal Assistance Inc | 13,200
DE-1 | Legal Services Corporation of Delaware Inc | 443,479
MDE | Legal Aid Bureau Inc | 20,966
DC-1 | Neighborhood LS Program of the District of Columbia | 795,329
FL-1 | Central Florida Legal Services Inc | 963,874
FL-2 | Legal Aid Service of Broward County, Inc | 983,699
FL-3 | Florida Rural Legal Services Inc | 1,948,052
FL-4 | Jacksonville Area Legal Aid Inc | 770,390
FL-5 | Legal Services of Greater Miami, Inc | 2,721,581
FL-6 | Legal Services of North Florida Inc | 826,216
FL-7 | Greater Orlando Area Legal Services Inc | 779,262
FL-8 | Bay Area Legal Services, Inc | 1,096,211
FL-9 | Withlacoochee Area Legal Services Inc | 437,936
FL-10 | Three Rivers Legal Services Inc | 614,394
FL-11 | Northwest Florida Legal Services Inc | 423,546
FL-12 | Gulfcoast Legal Services Inc | 928,088
MFL | Florida Rural Legal Services Inc | 758,544
NFL-1 | Florida Rural Legal Services Inc. * * * | 250,000
NFL-1 | Legal Aid Service of Broward County, Inc. * * * | 250,000
GA-1 | Atlanta Legal Aid Society Inc | 1,759,756
GA-2 | Georgia Legal Services Program | 5,534,485
MGA | Georgia Legal Services Program | 331,141
GU-1 | Guam Legal Services Corporation | 156,599
HI-1 | Legal Aid Society of Hawaii | 838,384
MHI | Legal Aid Society of Hawaii | 58,205
NHI-1 | Native Hawaiian Legal Corporation | 107,722
ID-1 | Idaho Legal Aid Services Inc | 920,885
MID | Idaho Legal Aid Services Inc | 157,871
NID-1 | Idaho Legal Aid Services Inc | 54,775
IL-3 | Land of Lincoln Legal Assistance Fnd | 2,591,722
IL-4 | Prairie State Legal Services Inc | 2,192,711
IL-5 | West Central Illinois Legal Assistance | 185,859
IL-6 | Legal Assistance Fnd. of Metro. Chicago | 5,748,673
MIL | Legal Assistance Fnd. of Metro. Chicago | 210,839
IN-5 | Legal Services Organization of Indiana, Inc | 4,642,605
MIN | Legal Services Organization of Indiana, Inc | 96,031
IA-1 | Legal Services Corporation of Iowa | 2,268,132
IA-2 | Legal Aid Society of Polk County | 239,521
MIA | Legal Services Corporation of Iowa | 31,870
KS-1 | Kansas Legal Services Inc | 2,258,557
MKS | Kansas Legal Services Inc | 10,037
KY-2 | Legal Aid Society | 1,152,128
KY-3 | Central Kentucky Legal Services Inc | 476,117
KY-5 | Appalachian Research and Defense Fund of Kentucky | 2,020,730
KY-8 | Northern Kentucky Legal Aid Society Inc | 749,011
KY-9 | Cumberland Trace Legal Services Inc | 1,198,479
MKY | Texas Rural Legal Aid Inc | 35,943
LA-1 | Capital Area Legal Services Corporation | 1,396,580
LA-2 | Southwest Louisiana Legal Services Society Inc | 423,496
LA-3 | North Louisiana Legal Assistance Corporation | 785,342
LA-4 | New Orleans Legal Assistance Corporation | 1,949,812
LA-5 | Northwest Louisiana Legal Services Inc | 760,965
LA-6 | Acadiana Legal Service Corporation | 1,641,826
LA-7 | Kisatchie Legal Services Corporation | 412,286
LA-8 | Southeast Louisiana Legal Services Corporation | 594,609
MLA | Texas Rural Legal Aid Inc | 23,254
ME-1 | Pine Tree Legal Assistance Inc | 1,000,601
MMX-1 | Pine Tree Legal Assistance Inc | 105,482
NME-1 | Pine Tree Legal Assistance Inc | 54,342
MD-1 | Legal Aid Bureau Inc | 3,106,045
MMD | Legal Aid Bureau Inc | 76,792
MA-1 | Volunteer Lawyers Project of the Boston Bar Association | 1,480,468
MA-2 | South Middlesex Legal Services Inc | 160,118
MA-3 | Legal Services for Cape Cod and Islands Inc | 195,524
MA-4 | Merrimack Valley Legal Services Inc | 716,712
MA-5 | New Center for Legal Advocacy, Inc | 522,609
MA-10 | Massachusetts Justice Project | 1,200,652
MI-1 | Legal Services of Southeastern Michigan Inc | 542,030
MI-2 | Legal Services of Southeastern Michigan Inc | 233,656
MI-3 | Legal Aid and Defender Association, Inc | 3,276,613
MI-4 | Legal Services of Eastern Michigan | 1,292,520
MI-5 | Legal Aid of Central Michigan | 508,541
MI-6 | Lakeshore Legal Aid | 551,678
MI-7 | Oakland Livingston Legal Aid | 543,930
MI-8 | Legal Aid of Western Michigan | 182,381
MI-9 | Legal Services of Northern Michigan Inc | 782,715
MI-10 | Legal Aid of Western Michigan | 1,009,399
MI-11 | Legal Aid of Western Michigan | 404,207
MMI | Legal Services of Southeastern Michigan Inc | 508,400
NMI-1 | Michigan Indian Legal Services Inc | 121,038
MP-1 | Micronesian Legal Services, Inc | 1,386,345
MN-1 | Legal Aid Service of Northeastern Minnesota | 463,445
MN-2 | Judicare of Anoka County Inc | 100,889
MN-3 | Central Minnesota Legal Services Inc | 1,215,827
MN-4 | Legal Services of Northwest Minnesota Corporation | 454,276
MN-5 | Southern Minnesota Regional Legal Services Inc | 1,192,746
MMN | Southern Minnesota Regional Legal Services Inc | 168,982
NMN-1 | Anishinabe Legal Services Inc | 201,488
MS-1 | Central Mississippi Legal Services | 921,017
MS-2 | North Mississippi Rural Legal Services Inc | 2,207,911
MS-3 | South Mississippi Legal Services Corporation | 575,824
MS-4 | Southeast Mississippi Legal Services Corporation | 453,887
MS-5 | Southeast Mississippi Legal Services Corporation | 537,742
MS-6 | Southwest Mississippi Legal Services Corporation | 468,195
MMS | Texas Rural Legal Aid Inc | 48,202
NMS-1 | Southeast Mississippi Legal Services Corporation | 70,084
MO-3 | Legal Aid of Western Missouri | 1,677,396
MO-4 | Legal Services of Eastern Missouri Inc | 1,762,805
MO-5 | Mid-Missouri Legal Services Corporation | 344,019
MO-7 | Legal Aid of Southwest Missouri | 1,624,479
MMO | Legal Aid of Western Missouri | 68,804
MT-1 | Montana Legal Services Association | 985,277
MMT | Montana Legal Services Association | 46,103
NMT-1 | Montana Legal Services Association | 112,453
NE-4 | Nebraska Legal Services | 1,373,706
MNE | Nebraska Legal Services | 35,711
NNE-1 | Nebraska Legal Services | 27,869
NV-1 | Nevada Legal Services Inc | 986,359
MNV | Nevada Legal Services Inc | 2,123
NNV-1 | Nevada Legal Services Inc | 112,112
NH-1 | Legal Advice & Referral Center, Inc | 562,450
NJ-1 | Cape-Atlantic Legal Services, Inc | 227,402
NJ-2 | Warren County Legal Services Inc | 39,709
NJ-3 | Camden Regional Legal Services Inc | 844,456
NJ-4 | Union County Legal Services Corporation | 284,682
NJ-5 | Hunterdon County Legal Service Corporation | 22,362
NJ-6 | Bergen County Legal Services | 258,099
NJ-7 | Hudson County Legal Services Corporation | 656,102
NJ-8 | Essex-Newark Legal Services Project Inc | 880,556
NJ-9 | Middlesex County Legal Services Corporation | 268,103
NJ-10 | Passaic County Legal Aid Society | 360,144
NJ-11 | Somerset-Sussex Legal Services Corporation | 84,912
NJ-12 | Ocean-Monmouth Legal Services Inc | 427,023
NJ-13 | Legal Aid Society of Mercer County | 186,586
NJ-14 | Legal Aid Society of Morris County | 92,620
MNJ | Camden Regional Legal Services Inc | 101,913
NM-1 | DNA-People's Legal Services Inc | 206,205
NM-2 | Legal Aid Society of Albuquerque Inc | 551,992
NM-3 | Southern New Mexico Legal Services Inc | 920,125
NM-4 | Community and Indian Legal Services | 775,157
MNM | Southern New Mexico Legal Services Inc | 73,769
NNM-1 | Southern New Mexico Legal Services Inc | 12,822
NNM-2 | DNA-People's Legal Services Inc | 11,222
NNM-3 | Community and Indian Legal Services | 366,840
NY-1 | Legal Aid Society of Northeastern New York Inc | 685,346
NY-3 | Legal Aid for Broome and Chenango | 224,123
NY-4 | Neighborhood Legal Services Inc | 943,180
NY-5 | Southern Tier Legal Services | 153,518
NY-6 | Cheung County Neighborhood Legal Services Inc | 267,459
NY-7 | Nassau/Suffolk Law Services Committee Inc | 885,818
NY-8 | Legal Aid Society of Rockland County Inc | 540,551
NY-9 | Legal Services for New York City | 11,298,917
NY-10 | Niagara County Legal Aid Society Inc | 189,890
NY-13 | Legal Services of Central New York Inc | 702,164
NY-14 | Legal Aid Society of Mid-New York, Inc | 618,731
NY-15 | Westchester/Putnam Legal Services Inc | 605,373
NY-16 | North Country Legal Services Inc | 324,491
NY-17 | Southern Tier Legal Services | 254,588
NY-18 | Monroe County Legal Assistance Corporation | 884,256
MNY | Legal Aid Society of Mid-New York, Inc | 233,788
NC-1 | Legal Services of North Carolina, Inc | 4,971,828
NC-2 | Legal Services of Southern Piedmont, Inc | 668,221
NC-3 | North Central Legal Assistance Program, Inc | 359,715
NC-4 | Legal Aid Society of Northwest North Carolina Inc | 402,819
MNC | Legal Services of North Carolina, Inc | 452,673
NNC-1 | Legal Services of North Carolina, Inc | 117,399
ND-1 | Legal Assistance of North Dakota Inc | 623,051
ND-2 | North Dakota Legal Services Inc | 8,277
MND | Southern Minnesota Regional Legal Services Inc | 97,898
NND-1 | Legal Assistance of North Dakota Inc | 44,428
NND-2 | North Dakota Legal Services Inc | 119,849
OH-5 | The Legal Aid Society of Columbus | 1,153,260
OH-17 | Ohio State Legal Services | 1,834,764
OH-18 | Legal Aid Society of Greater Cincinnati | 1,366,875
OH-19 | Western Ohio Legal Services Association | 1,404,544
OH-20 | Stark County Legal Aid Society | 1,949,366
OH-21 | The Legal Aid Society of Cleveland | 2,063,339
OH-22 | Legal Services of Northwest Ohio, Inc | 1,073,312
MOH | Legal Services of Northwest Ohio, Inc | 106,390
OK-1 | Legal Aid of Western Oklahoma Inc | 2,312,211
OK-2 | Legal Services of Eastern Oklahoma, Inc | 1,846,717
MOK | Legal Aid of Western Oklahoma Inc | 52,852
NOK-1 | Oklahoma Indian Legal Services Inc | 305,920
OR-2 | Lane County Legal Aid Service Inc | 274,745
OR-4 | Marion-Polk Legal Aid Service Inc | 242,164
OR-5 | Legal Aid Services of Oregon | 1,861,488
MOR | Legal Aid Services of Oregon | 470,467
NOR-1 | Legal Aid Services of Oregon | 155,639
PA-1 | Philadelphia Legal Assistance Center | 2,554,532
PA-5 | Laurel Legal Services Inc | 628,660
PA-8 | Neighborhood Legal Services Association | 1,646,493
PA-11 | Southwestern Pennsylvania Legal Services Inc | 518,660
PA-23 | Montgomery County Legal Aid Service | 808,539
PA-24 | Northern Pennsylvania Legal Services, Inc | 1,480,386
PA-25 | MidPenn Legal Services, Inc | 2,106,039
PA-26 | Northwestern Legal Services | 720,454
MPA | Philadelphia Legal Assistance Center | 139,987
PR-1 | Puerto Rico Legal Services, Inc | 16,438,579
PR-2 | Community Law Office Inc | 311,356
MPR | Puerto Rico Legal Services, Inc | 245,559
RI-1 | Rhode Island Legal Services Inc | 764,029
SC-1 | Neighborhood Legal Assistance Program Inc | 1,205,889
SC-2 | Palmetto Legal Services | 1,062,334
SC-3 | Carolina Regional Legal Services Corporation | 243,378
SC-4 | Legal Services Agency of Western Carolina Inc | 664,991
SC-7 | Piedmont Legal Services Inc | 933,705
MSC | Neighborhood Legal Assistance Program Inc | 167,066
SD-1 | Black Hills Legal Services Inc | 159,061
SD-2 | East River Legal Services | 428,081
SD-3 | Dakota Plains Legal Services Inc | 287,664
MSD | Black Hills Legal Services Inc | 3,354
NSD-1 | Dakota Plains Legal Services Inc | 787,216
TN-1 | Southeast Tennessee Legal Services, Inc | 623,043
TN-2 | Legal Services of Upper East Tennessee | 743,658
TN-3 | Knoxville Legal Aid Society Inc | 547,399
TN-4 | Memphis Area Legal Services Inc | 1,354,236
TN-5 | Legal Aid Society of Middle Tennessee | 1,045,878
TN-6 | Rural Legal Services of Tennessee Inc | 679,646
TN-7 | West Tennessee Legal Services Inc | 644,067
TN-8 | Legal Services of South Central Tennessee Inc | 462,280
MTN | Texas Rural Legal Aid Inc | 53,571
TX-1 | Legal Aid of Central Texas | 1,496,337
TX-3 | Legal Services of North Texas | 2,310,006
TX-4 | El Paso Legal Assistance Society | 1,222,154
TX-5 | West Texas Legal Services, Inc | 3,944,033
TX-6 | Gulf Coast Legal Foundation | 4,782,186
TX-8 | Bexar County Legal Aid Association Inc | 1,808,222
TX-9 | Heart of Texas Legal Services Corporation | 489,946
TX-10 | Texas Rural Legal Aid Inc | 3,642,350
TX-11 | East Texas Legal Services Inc | 2,727,620
TX-12 | Coastal Bend Legal Services | 1,341,845
MTX | Texas Rural Legal Aid Inc | 1,180,710
NTX-1 | Texas Rural Legal Aid Inc | 26,387
UT-1 | Utah Legal Services Inc | 1,532,206
MUT | Utah Legal Services Inc | 57,288
NUT-1 | Utah Legal Services Inc | 37,654
VT-1 | Legal Services Law Line of Vermont Inc | 434,029
VI-1 | Legal Services of the Virgin Islands Inc | 278,321
VA-1 | Legal Services of Northern Virginia Inc | 484,642
VA-3 | Rappahannock Legal Services Inc | 220,835
VA-15 | Southwest Virginia Legal Aid Society, Inc | 821,996
VA-15 | Legal Aid Society of New River Valley, Inc | 821,996
VA-16 | Tidewater Legal Aid Society | 1,241,064
VA-17 | Virginia Legal Aid Society Inc | 893,793
VA-18 | Central Virginia Legal Aid Society, Inc | 694,234
VA-19 | Blue Ridge Legal Services Inc | 562,144
MVA | Central Virginia Legal Aid Society, Inc | 133,213
WA-1 | Northwest Justice Project | 3,662,027
MWA | Northwest Justice Project | 616,492
NWA-1 | Northwest Justice Project | 203,626
WV-3 | West Virginia Legal Services Plan Inc | 1,697,462
WV-4 | Appalachian Legal Services, Inc | 1,122,389
MWV | West Virginia Legal Services Plan Inc | 30,879
WI-1 | Legal Action of Wisconsin Inc | 2,109,955
WI-2 | Wisconsin Judicare Inc | 997,677
WI-3 | Legal Services of Northeastern Wisconsin Inc | 614,427
WI-4 | Western Wisconsin Legal Services Inc | 402,010
MWI | Legal Action of Wisconsin Inc | 76,899
NWI-1 | Wisconsin Judicare Inc | 115,502
WY-4 | Wyoming Legal Services Inc | 422,794
MWY | Wyoming Legal Services Inc | 10,508
NWY-1 | Wyoming Legal Services Inc | 145,693

These grants and contracts will be awarded under the authority conferred on LSC by the Legal Services Corporation Act, as amended (42 U.S.C. 2996e(a)(1)). Awards will be made so that each service area indicated is served by one of the organizations listed above, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2001.

* * * Funding for this proposed service area is subject to the final LSC appropriation for FY 2001. Because LSC funding is subject to future Congressional action, there is no guarantee that funding for this service area will be available. If funding does not become available, LSC will not fund this proposed service area.

Dated: September 21, 2000.
Michael A. Genz,
Director, Office of Program Performance.

[FR Doc. 00-24887 Filed 9-28-00; 8:45 am]

BILLING CODE 7050-01-P